DEPARTMENT OF ENERGY

Federal Energy Regulatory Commission

[Docket No. RP02-530-000]

Guardian Pipeline, L.L.C.; Notice of Compliance Filing

September 6, 2002.

Take notice that on September 3, 2002, Guardian Pipeline, L.L.C. (Guardian) tendered for filing revised pro forma tariff sheets to its FERC Gas Tariff, Original Volume No. 1, as listed on Appendix A attached to the filing. Guardian states that the purpose of this filing is to submit tariff sheets in compliance with Commission requirements in Order Nos. 637, et seq.

Guardian states that its revisions to comply with Order Nos. 637, et seq., are consistent with the Commission's Preliminary Determination on Non-Environmental Issues, 91 FERC (CCH) ¶ 61,285 (2000), and Order on Rehearing and Issuing Certificates, 94 FERC (CCH) ¶ 61,269 (2001), issued to Guardian in Docket Nos. CP00-36, et al. Guardian states that the pro forma tariff included in its November 30, 1999 Certificate Application in Docket Nos. CP00-36, et al., already complied with many aspects of Order No. 637.

Guardian explains that its filing addresses both the revisions it has made to its tariff to comply with Order No. 637, as well as the means by which Guardian's pro forma tariff filed as part of its Certificate Application already complies with Order No. 637.

Guardian states that complete copies of this filing are being served on its shippers and state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-23230 Filed 9-11-02; 8:45 am]

BILLING CODE 6717-01-P